NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by October 2, 2008. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

1. Applicant:

Permit Application No. 2009-013 Robert Pittman, NOAA/NMFS Southwest Fisheries Science Center, 8604 La Jolla Shores Drive, La Jolla, CA 92037, College Station, TX 77843-1112.

Activity for Which Permit Is Requested: Take and Import into the U.S.A. The applicant's study of movement patterns, diet preferences and genetics of whales calls for the collection of pencil eraser size tissue samples from up to 200 Killer whales (Orcinus orca), 25 Minke whales (Balaenoptera bonaerensis), and 25 Humpback whales (Megaptera novaeangliae). The tissue samples will be used in food habit studies (stable isotope and fatty acids). Additionally the same samples will be used to analyze for genetic distinctness of the different killer whale types in Antarctica using genetics techniques. For movement patterns, a small (ca 40g) satellite tags will be attached to some of the whales. The samples collected will be imported to the U.S. for research studies at the Southwest Fisheries Science Center.

Location: Antarctic Peninsula area and McMurdo Sound region, Antarctica.

Dates: December 25, 2008 to December 31, 2013.

Nadene G. Kennedy,
Permit Officer, Office of Polar Programs.

[FR Doc. E8-20242 Filed 8-29-08; 8:45 am]

BILLING CODE 7555-01-P